FEDERAL MEDIATION AND CONCILIATION SERVICE

29 CFR Part 1404

RIN 3076-AA14

Arbitration Services

Correction

In proposed rule document 2018-27759 appearing on pages 614-619 in the issue of Thursday, January 31, 2019, make the following correction:

On page 614, in the first column, under the DATES heading, in the third line, “January 19, 2019” should read “February 28, 2019”.

[FR Doc. C1-2018-27759 Filed 2-1-19; 8:45 am]

BILLING CODE 1301-00-D